ENVIRONMENTAL PROTECTION AGENCY

40 CFR Part 300

[FRL-7971-4]

National Oil and Hazardous Substance; Pollution Contingency Plan; National Priorities List

AGENCY: Environmental Protection Agency.

ACTION: Proposed rule; notice of intent to partially delete the East Tailing portion of the Tar Lake Superfund Site from the National Priorities List.

SUMMARY: The Environmental Protection Agency, (EPA) Region 5 is issuing a notice of intent to partially delete the East Tailing Area of the Tar Lake Superfund Site (Site) located in Antrim County, Michigan, from the National Priorities List (NPL) and requests public comments on this notice of intent to partially delete. The East Tailing Area, as defined in the Remedial Investigation Report dated August 7, 2000, includes all soil, subsurface soil and groundwater associated with that part of the Tar Lake Superfund Site. The NPL, promulgated pursuant to section 105 of the Comprehensive Environmental Response, Compensation, and Liability Act (CERCLA) of 1980, as amended, is found at Appendix B of 40 CFR part 300 which is the National Oil and Hazardous Substances Pollution Contingency Plan (NCP). The EPA and the State of Michigan, through the Michigan Department of Environmental Quality, have determined that all appropriate response actions under CERCLA have been completed. However, this partial deletion does not preclude future actions under Superfund. In the “Rules and Regulations” Section of today's Federal Register, we are publishing a direct final notice of partial deletion of the East Tailing Area of the Tar Lake Superfund Site without prior notice of intent to partially delete because we view this as a non-controversial revision and anticipate no adverse comment. We have explained our reasons for this partial deletion in the preamble to the direct final notice of partial deletion. If we receive no adverse comment(s) on the direct final notice of partial deletion, we will not take further action. If we receive timely adverse comment(s), we will withdraw the direct final notice of partial deletion and it will not take effect. We will, as appropriate, address all public comments in a subsequent final partial deletion notice based on adverse comments received on this notice of intent to partially delete. We will not institute a second comment period on this notice of intent to partially delete. Any parties interested in commenting must do so at this time. For additional information, see the direct final notice of partial deletion which is located in the Rules section of this Federal Register.

DATES: Comments concerning this Site must be received by October 21, 2005.

ADDRESSES: Written comments should be addressed to: Stuart Hill, Community Involvement Coordinator, U.S. EPA (P-19J), 77 W. Jackson, Chicago, IL 60604, 312-886-0689 or 1-800-621-8431. Electronic comments should be sent to bloom.thomas@epa.gov.

FOR FURTHER INFORMATION CONTACT: Thomas Bloom, Remedial Project Manager at (312) 886-1967, or Gladys Beard, State NPL Deletion Process Manager at (312) 886-7253 or 1-800-621-8431, Superfund Division, U.S. EPA (SR-6J), 77 W. Jackson, IL 60604.

SUPPLEMENTARY INFORMATION: For additional information, see the Direct Final Notice of Deletion which is located in the Rules section of this Federal Register.

Information Repositories: Repositories have been established to provide detailed information concerning this decision at the following address: EPA Region 5 Library, 77 W. Jackson, Chicago, IL 60604, (312) 353-5821, Monday through Friday 8 a.m. to 4 p.m.; Mancelona Public Library, 202 W. State Street, Mancelona, MI 49945, (231) 587-9471, Monday through Friday 8 a.m. to 4 p.m., Tuesday and Thursday 6 p.m to 8 p.m.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: September 6, 2005.
Bharat Mathur,
Acting Regional Administrator, Region 5.

[FR Doc. 05-18835 Filed 9-20-05; 8:45 am]

BILLING CODE 6560-50-P